COMMODITY FUTURES TRADING COMMISSION

Sunshine Act Meetings

Time and Date: 9:00 a.m. EST, Tuesday, November 24, 2015.

Place: CFTC Headquarters Lobby-Level Hearing Room, Three Lafayette Centre, 1155 21st Street NW., Washington, DC

Status: Open.

Matters to be Considered: The Commission will hold this meeting to consider rulemaking matters, including the issuance of a proposed rulemaking. The agenda for this meeting is available to the public and posted on the Commission's Web site at http://www.cftc.gov. In the event that the time, date, or place of this meeting changes, an announcement of the change, along with the new time, date, or place of the meeting, will be posted on the Commission's Web site.

Contact Person for More Information: Christopher J. Kirkpatrick, Secretary of the Commission, 202-418-5964.

Christopher J. Kirkpatrick,
Secretary of the Commission.

[FR Doc. 2015-29743 Filed 11-18-15; 11:15 am]

BILLING CODE 6351-01-P